DEPARTMENT OF ENERGY

Federal Energy Regulatory Commission

[Docket Nos. CP17-40-000, CP17-40-001]

Spire STL Pipeline, LLC; Notice Granting Late Interventions

On February 6, 2017, in Docket No. CP17-40-000, the Commission issued public notice of Spire STL Pipeline, LLC's (Spire) application requesting approval to construct and operate a pipeline project, which would include: (i) The construction of approximately 59 miles of a new greenfield, 24-inch diameter pipeline; (ii) the acquisition of approximately seven miles of existing Line 880, currently owned by Spire Missouri Inc. (Spire Missouri); ¹ and (iii) minor modifications to Line 880 after it is acquired. This notice set February 27, 2017, as the deadline for motions to intervene.

¹ Spire Missouri Inc. was formerly known as Laclede Gas Company.

On May 1, 2017, in Docket No. CP17-40-001, the Commission issued public notice of Spire's amendment to its application to propose a route alternative. Instead of acquiring and refurbishing Spire Missouri's Line 880, Spire's amended application proposes to construct a new six-mile, 24-inch diameter pipeline for the final segment of its proposal (referred to as the North County Extension). This notice set May 22, 2017, as the deadline for motions to intervene.

Multiple motions to intervene out of time were filed between the intervention deadlines and December 19, 2017. Here, because the deadline for filing a timely intervention passed before the Commission announced its new policy governing late interventions in Tennessee Gas Pipeline Company, L.L.C.,² the late motions to intervene are granted.³

² Tennessee Gas Pipeline Co., L.L.C., 162 FERC 61,167, at P 51 (2018).

³ 18 CFR 385.214(d) (2017).

Dated: April 19, 2018.
Kimberly D. Bose,
Secretary.

[FR Doc. 2018-08671 Filed 4-24-18; 8:45 am]

BILLING CODE 6717-01-P